DEPARTMENT OF ENERGY

Federal Energy Regulatory Commission

Notice of FERC Staff Attendance at Meetings of Southwest Power Pool Board of Directors and Members Committee and Meeting of Southwest Power Pool Regional State Committee

December 1, 2004.

The Federal Energy Regulatory Commission hereby gives notice that members of its staff may attend the meetings of the Southwest Power Pool (SPP) Board of Directors and Members Committee noted below, and the meeting of the SPP Regional State Committee noted below. The staff's attendance is part of the Commission's ongoing outreach efforts.

SPP Regional State Committee Meeting—January 24, 2005, 1 p.m .-5 p.m. (c.s.t.)

Sam's Town Casino Hotel and Convention Center, 315 Clyde Fant Parkway, Shreveport, LA 71101, (318) 429-6859.

SPP Board of Directors and Members Committee Meeting—December 14, 2004, 10:30 a.m.-3 p.m. (c.s.t)

DFW Airport Hyatt, Dallas, Texas, (972) 453-1234.

SPP Board of Directors and Members Committee Meeting—January 25, 2005, 9 a.m.-3 p.m.

Sam's Town Casino Hotel and Convention Center, 315 Clyde Fant Parkway, Shreveport, LA 71101, (318) 429-6859.

The discussions may address matters at issue in the following proceedings:

Docket Nos. RT04-1-000 and ER04-48-000, Southwest Power Pool, Inc.

Docket No. ER04-833-000, Southwest Power Pool, Inc.

Docket No. ER04-1096-000, Southwest Power Pool, Inc.

Docket No. EL05-16-000, Aquila Merchant Services, Inc. v. Southwest Power Pool, Inc.

Docket No. ER05-109-000, Southwest Power Pool, Inc.

Docket No. ER05-156-000, Southwest Power Pool, Inc.

These meetings are open to the public.

For more information, contact Tony Ingram, Office of Markets, Tariffs and Rates, Federal Energy Regulatory Commission at (202) 502-8938 or tony.ingram@ferc.gov.

Magalie R. Salas,
Secretary.

[FR Doc. E4-3505 Filed 12-6-04; 8:45 am]

BILLING CODE 6717-01-P